DEPARTMENT OF COMMERCE

National Oceanic and Atmospheric Administration

RIN 0648-XG84

Taking and importing of Endangered Species; Taking of Sea Turtles Incidental to Power Plant Operations

AGENCY: National Marine Fisheries Service (NMFS), National Oceanic and Atmospheric Administration (NOAA), Commerce.

ACTION: Notice of receipt of applications for individual incidental take permits under the Endangered Species Act; request for comment and information.

SUMMARY: NMFS received seven applications for individual incidental take permits under the Endangered Species Act of 1973, as amended (ESA) from power generating stations located on the coast of southern California for the entrainment of sea turtles incidental to routine operations associated with power plant operations. As a result of these applications, NMFS is considering whether to issue the permits in accordance with the ESA authorizing the incidental taking of endangered species. In order to issue the permits, NMFS must determine that these takings will not appreciably reduce the likelihood of survival and recovery for the species and that habitat conservation plans meet the requirements of the ESA. NMFS provides this notice to allow public comment on the applications and conservation plans. NMFS also seeks additional commercial and scientific data relevant to the documents.

DATES: Written comments and information must be submitted before May 12, 2008.

ADDRESSES: Comments should be addressed to Russell Strach, NMFS Southwest Region, 501 West Ocean Boulevard, Suite 4200, Long Beach, CA, 90802; facsimile: 916-930-3643; or may be submitted electronically to 0648-XG84@noaa.gov. Copies of the applications may be obtained upon written request to this address, or by telephoning the persons below (see FOR FURTHER INFORMATION CONTACT)

FOR FURTHER INFORMATION CONTACT: Dan Lawson, 562-980-3209, or Lindsey Waller, 562-980-3230, NMFS Southwest Regional Office.

SUPPLEMENTARY INFORMATION:

Background

Section 9 of the ESA and Federal regulations prohibit the “taking” of a species listed as endangered or threatened. The term “take”is defined under the ESA to mean harass, harm, pursue, hunt, shoot, would, kill, trap, capture, or collect, or to attempt to engage in any such conduct. Section 10(a)(1)(B) ESA) authorizes the incidental taking of endangered or threatened species as long as such take is incidental, but not intentional, to an otherwise lawful activity, if certain determinations are made and a permit issued.

In order to issue the ESA section 10(a)(1)(B) permit, NMFS must find that: the taking will be incidental; the impacts will be mitigated to the maximum extent practicable; the taking will not appreciably reduce the likelihood of survival and recovery of the species; the habitat conservation plan reflects measures that NMFS deems necessary or appropriate; and there are adequate assurances that the conservation plan will be funded or implemented. NMFS regulations governing the issuance of permits for threatened and endangered species are promulgated at 50 CFR 222.307.

Incidental live and lethal takings of threatened and endangered sea turtles, including green (Chelonia mydas), loggerhead (Caretta caretta), leatherback (Dermochelys coriacea), and olive ridley (Lepidochelys olivacea) have occurred or have a reasonable chance to occur, and are expected to continue to occur as a result of the operation of circulating water systems (CWS) by the electrical power generation plants located in southern California described in this incidental take permit application. These CWS are an integral part of these power stations that provide continuous cooling water necessary for power generation and safety of the facility. The typical location of entrainment occurs as water is taken into the plant via submerged structures or canals. Intake velocities may be strong enough to pull live animals into the plant, particularly if they are actively seeking prey in the vicinity of intake structures, or seeking shelter in the intake structure itself. Confinement within intake plumbing could lead to injury or death. If the animal is unable to escape, it could (1) drown or become fatally injured in transit between intake and large sedimentation basins within the plants known as forebays, (2) survive the transit and succumb in the forebay due to exhaustion, illness, or disease, or (3) survive the transit and be rescued by plant personnel using cages specially designed for such an activity. Decomposed turtles may also become entrained in the power plant intake structures.

The following is a list and brief description of the history and basic operational design of the 7 power generation stations and their conservation plans in the application for an incidental take permit.

Redondo Beach Generating Station (RBGS)

RBGS is a 1,310-megawatt (MW) facility owned by the AES Corporation (1998) and operated by the Southern California Edison Company. The Redondo Beach plant is located on the southern California coast in the city of Redondo Beach and consists of eight fossil-fueled steam-electric generating units. There are three intake structures which provide cooling water to the eight units. In 1987, four of the units and one of the intake structures were taken offline. The two remaining intakes supply Units 5 and 6 and Units 7 and 8, respectively, and draw in approximately 176,000 - 468,000 gallons of sea water per minute (gpm). A total of two live and one decomposed dead green sea turtles were entrained in the facility from 1982-2006.

The RBGS conservation plan anticipates the rare entrainment of sea turtles. Daily monitoring of the CWS is conducted to detect and report the presence of sea turtles. RBGS consultants have developed procedures to rescue live animals using cargo nets and return healthy turtles back to the ocean immediately. Injured turtles are released to a NMFS authorized animal rehabilitation facility. Full reports of all sea turtles found at the station are delivered to NMFS within one month of the incident. Training in sea turtle identification, rescue, tagging, and biological sampling are provided to Operations personnel. RBGS explored numerous options for reducing the impact on sea turtles but no physical measures are available that could effectively limit the entrainment of sea turtles. RBGS has proposed financial mitigation by offering $1,000 to a fund approved by NMFS for the preservation of sea turtles for the take of any sea turtle, attributable to the operation of the facility.

Huntington Beach Generating Station (HBGS)

HBGS is a nominal 900-MW facility owned by the AES Corporation (1998). The Huntington Beach plant is located on the southern California coast in the city of Huntington Beach, and consists of four fossil-fueled steam-electric generating units. A single intake supplies cooling water to all units. The maximum design flow through the intake is 352,000 gpm. No sea turtles were entrained from 1982-2006.

The HBGS conservation plan anticipates the rare entrainment of sea turtles. Daily monitoring of the CWS is conducted to detect and report the presence of sea turtles. HBGS consultants have developed procedures to rescue live animals using cargo nets and return healthy turtles back to the ocean immediately. Injured turtles are released to a NMFS authorized animal rehabilitation facility. Full reports of all sea turtles found at the station are delivered to NMFS within one month of the incident. Training in sea turtle identification, rescue, tagging, and biological sampling are provided to Operations personnel. HGBS explored numerous options for reducing the impact on sea turtles but no physical measures are available that could effectively limit the entrainment of sea turtles. HGBS has proposed financial mitigation by offering $1,000 to a fund approved by NMFS for the preservation of sea turtles for the take of any sea turtle, attributable to the operation of the facility.

Scattergood Generating Station (SGS)

SGS is an 830-MW facility owned by the City of Los Angeles and operated by the L.A. Department of Water and Power located in the City of Los Angeles near the western border of the California coastal town of El Segundo, which is located to the south of Marina Del Ray and the north of Redondo Beach in Los Angeles County. SGS is a three-unit gas-fueled steam-electric generating facility incorporating eight circulating water pumps in its once-through CWS. A single cooling water intake structure is shared by all units. Maximum combined flow for all units is approximately 495 million gallons per day, or about 343,750 gpm. A total of three green and two loggerhead sea turtles were entrained from 1982-2006 in the facility. All of these turtles were eventually released alive.

The SGS conservation plan anticipates the rare entrainment of sea turtles. Daily monitoring of the CWS is conducted to detect and report the presence of sea turtles. SGS consultants have developed procedures to rescue live animals using cargo nets and return healthy turtles back to the ocean immediately. Injured turtles are released to a NMFS authorized animal rehabilitation facility. Full reports of all sea turtles found at the station are delivered to NMFS within one month of the incident. Training in sea turtle identification, rescue, tagging, and biological sampling are provided to Operations personnel. SGS explored numerous options for reducing the impact on sea turtles but no physical measures are available that could effectively limit the entrainment of sea turtles. SGS has proposed financial mitigation by offering $1,000 to a fund approved by NMFS for the preservation of sea turtles for the take of any sea turtle, attributable to the operation of the facility.

Long Beach Generating Station (LBGS)

LBGS is 577-MW electric generating facility owned and operated by NRG Energy and is located in western Los Angeles County, situated in the City of Long Beach along the coast of the Pacific Ocean. The power plant is bounded on the west and south by the Port of Long Beach and on the north by the City of Long Beach. The current configuration of the Long Beach power plant was in operation from 1977 to 2005, when the electricity generation terminated. The intake structure consists of a single forebay area within the Cerritos Channel in the Port of Long Beach, along with two intake pipes. The cooling water intake is still operational but there is no heat added to the discharge since the power plant is idle. Approximately 365,000 gpm were drawn through the intake during normal operations. The CWS was scheduled to be permanently shut down as soon as the property's groundwater extraction and treatment system and storm water discharges were reconfigured. This was expected sometime in 2007; however, this procedure did not take place. Since then, plans have been developed and steps taken to resume power generation with four of the nine units at the station. The proposed reconstructed facility will not use a CWS to cool the generators, but it will remain in place. No sea turtles were entrained in the CWS from 1982-2006.

The LGBS conservation plan outlines the monitoring and reporting procedures required by NMFS in the event of a sea turtle take. The Southwest Region (SWR) Stranding Coordinator is immediately contacted after the discovery of a live or dead sea turtle. Completion and submission of a report, including photographs and biological information, is due to NMFS within 30 days of the incident. Training on handling and tagging procedures for sea turtles is provided to LBGS personnel. Because no sea turtle entrainments have been recorded to date, LGBS could not identify any practicable alternatives that would mitigate the existing condition related to its impact on sea turtles.

El Segundo Generating Station (ESGS)

ESGS is a 1,020-MW facility located in the City of El Segundo, owned and operated by El Segundo Power LLC (NRG subsidiary) (1998). The ESGS has been in operation since 1955 and utilizes two intake structures (individual structures for Units 1 and 2 and for Units 3 and 4) as part of the facility's once through cooling system. The intake structures consist of two pipes that extend offshore into Santa Monica Bay. Approximately 420,000 gpm are drawn through the intake system. A total of one dead green and two live loggerhead sea turtles were entrained in the facility from 1982-2006.

The ESGS conservation plan outlines the monitoring and reporting procedures required by NMFS in the event of a sea turtle take. The Southwest Region (SWR) Stranding Coordinator is immediately contacted after the discovery of a live or dead sea turtle. Completion and submission of a report, including photographs and biological information, is due to NMFS within 30 days of the incident. Training on handling and tagging procedures for sea turtles is provided to ESGS personnel. ESGS could not identify any practicable alternatives that would mitigate the existing condition related to its impact on sea turtles.

Encina Power Station (EPS)

EPS is a 965-MW facility located in western San Diego County, situated in the City of Carlsbad along the east coast of the Pacific Ocean. The power plant is bounded on the west by the Pacific Ocean, on the north by Agua Hedionda Lagoon, and on the south by the City of Carlsbad. EPS is owned by NRG (2006) and operated by Cabrillo Power I, LLC. EPS began operation in 1954. The intake structure, serving all five steam powered units, is located at the south end of Agua Hedionda Lagoon. The maximum flow design of the CWS is 595,340 gpm. A total of one dead and two live green sea turtles were entrained from 1982-2006.

The EPS conservation plan outlines the monitoring and reporting procedures required by NMFS in the event of a sea turtle take. The Southwest Region (SWR) Stranding Coordinator is immediately contacted after the discovery of a live or dead sea turtle. Completion and submission of a report, including photographs and biological information, is due to NMFS within 30 days of the incident. Training on handling and tagging procedures for sea turtles is provided to EPS personnel. Metal rails are in place at the forebay entrance which prevents animals from entering further into the CWS system. EPS could not identify any additional practicable alternatives that would mitigate the existing condition related to its impact on sea turtles.

Reliant Energy Ormond Beach Generating Station (OBGS)

Reliant Energy Ormond Beach Generating Station (OBGS) is a two-unit, 1,500- MW gas-fueled, steam-electric generating facility located near the California coast town of Oxnard, southeast of the entrance to Port Hueneme. The plant is approximately 48 km south of Santa Barbara, and 97 km north of Los Angeles. The plant is owned by Reliant Energy and is currently being operated by Southern California Edison Company personnel. Ocean water for cooling purposes is supplied via a single cooling water system. The facility consists of two gas-fueled steam-electric units fed with cooling water via the CWS. Four circulating water pumps operate with a total capacity of 476,000 gpm. One live green sea turtle was entrained at the facility from 1982-2006.

The OGBS conservation plan anticipates the rare entrainment of sea turtles. Daily monitoring of the CWS is conducted to detect and report the presence of sea turtles. OGBS consultants have developed procedures to rescue live animals using cargo nets and return healthy turtles back to the ocean immediately. Injured turtles are released to a NMFS authorized animal rehabilitation facility. Full reports of all sea turtles found at the station are delivered to NMFS within one month of the incident. Training in sea turtle identification, rescue, tagging, and biological sampling are provided to Operations personnel. OGBS explored numerous options for reducing the impact on sea turtles but no physical measures are available that could effectively limit the entrainment of sea turtles. OGBS has proposed financial mitigation by offering $1,000 to a fund approved by NMFS for the preservation of sea turtles for the take of any sea turtle, attributable to the operation of the facility.

Dated: April 7, 2008.
David Cottingham,
Chief, Marine Mammal and Turtle Division, National Marine Fisheries Service.

[FR Doc. E8-7788 Filed 4-10-08; 8:45 am]

BILLING CODE 3510-22-S